DEPARTMENT OF ENERGY

Federal Energy Regulatory Commission

[Docket No. EL10-84-001]

Californians for Renewable Energy, Inc. (CARE) v. Pacific Gas and Electric Company, Southern California Edison Company, San Diego Gas & Electric Company, California Public Utilities Commission; Notice of Amended Complaint

October 21, 2010,

Take notice that on October 20, 2010, pursuant to Rules 212 and 215 of the Federal Energy Regulatory Commission's (Commission) Rules of Practice and Procedure, 18 CFR 385.212 and 18 CFR 385.215, CAlifornians for Renewable Energy, Inc. (Complainant) filed an amendment to its September 1, 2010 filed complaint against Pacific Gas and Electric Company, Southern California Edison Company, San Diego Gas & Electric Company, and the California Public Utilities Commission (Collectively Respondents), alleging that the Respondents are violating the Federal Power Act by approving contracts for capacity and energy that exceeds the utilities' avoided cost cap etc.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 4, 2010.

Kimberly D. Bose,
Secretary.

[FR Doc. 2010-27398 Filed 10-28-10; 8:45 am]

BILLING CODE 6717-01-P